DEPARTMENT OF HEALTH AND HUMAN SERVICES

U.S. National Authority for the WHO Global Code of Practice on the International Recruitment of Health Personnel; Notice of Public Meeting

Time and date: Monday, July 2, 2018, 2:00 p.m.-4:00 p.m. EST.

Place: Hubert H. Humphrey Building, Room 325A, 200 Independence Ave. SW, Washington, District of Columbia 20201.

Status: Open, but requiring RSVP to us.who.irhp@hhs.gov by Monday, June 25, 2018.

Purpose: The purpose of the World Health Organization (WHO) Global Code of Practice on International Recruitment of Health Personnel (Global Code) is “to establish and promote voluntary principles and practices for the ethical international recruitment of health personnel and to facilitate the strengthening of health systems.” The United States Government has designated the Office of Global Affairs (OGA) and the Health Resources and Services Administration (HRSA) as co-National Authorities to be the point of contact for implementation activities. The Global Code encourages WHO Member States to cooperate with all relevant stakeholders in their implementation efforts. This meeting is intended to provide an update to all interested stakeholders on U.S. Global Code implementation efforts to date and to provide a forum for questions on activities related to implementation of the Global Code.

The meeting will be open to the public as indicated above, with attendance limited to space available. Individuals who plan to attend and need special assistance, such as sign language interpretation or other reasonable accommodations, should notify within their RSVP at least 10 business days prior to the meeting. Foreign nationals planning to attend the session in person will require additional paperwork for security clearance and that this clearance process requires a minimum of 10 business days.

RSVP: Due to security restrictions for entry into the HHS Humphrey Federal Building, we will need to receive RSVPs for this event. Please send your full name and organization to us.who.irhp@hhs.gov. If you are not a U.S. citizen, you must RSVP no later than Monday, June 18, 2018. Please note this in the subject line of your RSVP, and our office will contact you to gain additional biographical information for your clearance. For U.S. citizens, please RSVP no later than Monday, June 25, 2018. Written comments are welcome and encouraged, even if you are planning to attend in person. Please send them to the email address: us.who.irhp@hhs.gov.

Dated: May 9, 2018.
G. Garrett Grigsby,
Director for Global Affairs.

[FR Doc. 2018-10634 Filed 5-17-18; 8:45 am]

BILLING CODE 4150-38-P